DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: State Targeted Response to the Opioid Crisis (Opioid STR) Evaluation—NEW

The Substance Abuse and Mental Health Services Administration (SAMHSA) plans to award up to 59 grants to states and territories to help address the national opioid crisis by increasing access to treatment, reducing unmet treatment needs, and reducing opioid overdose related deaths through the provision of prevention, treatment, and recovery activities for opioid use disorder (OUD).

SAMHSA's Center for Behavioral Health Statistics and Quality (CBHSQ) will be conducting a cross-site evaluation of the Opioid STR grant program. The proposed data collection is necessary to evaluate how the Opioid STR state/territory grantees plan and implement prevention, treatment and recovery services. Additionally, a subset of communities/programs will be selected to participate in supplemental evaluation activities designed to provide detailed information related to the implementation of services at the program/community level, as well as the impacts of the program on client outcomes.

SAMHSA has developed a set of interview protocols and survey measures that will collect information from all state/territory grantees (up to 59), and subset (up to 20) programs/communities that provide services and activities funded by the grant. In addition, SAMHSA's Performance Accountability and Reporting System (SPARS) will be used to collect individual-level data using CSAT's Government Performance and Results Act (GPRA) for Discretionary Grant Programs Client Outcome Measure (OMB No. 0930-0208) from individuals receiving services from participating communities/programs.

Specific data collected as part of the Opioid STR evaluation include the following:

State Survey: The State Survey will be administered to State Project Directors/Program Managers to collect information about the state/territory's planned and implemented activities to address opioid misuse, using Opioid STR funding. The State Survey will be administered three (3) times, in September/October 2017, March/April 2018, and March/April 2019.

Community/Program Survey: The Community/Program Survey will be administered to Community/Program Directors or Program Managers to collect information about the community/program's readiness to implement activities that address opioid misuse, their actual implementation of activities that address opioid misuse, and initial outcomes of their implemented activities. The Community/Program Survey will be administered three (3) times, in September/October 2017, March/April 2018, and March/April 2019.

Community/Program Interview Protocol: The Community/Program Interview Protocol will be used with up to two (2) Community/Program Directors or Program Managers during in-person site visits to each participating community/program. Interviews will collect in-depth information about the community's/program's implementation of activities to address opioid misuse, using Opioid STR funding.

CSAT GPRA Client Outcome Measure: The CSAT GPRA Client Outcome Measure will be used with each client served in the Communities/Programs to collect data about client's progress as a result of receiving services. This data will be collected at three time intervals: intake to services, 6 month follow-up, and at discharge.

Estimates of Annualized Hour Burden for the Opioid STR Measures
SAMHSA program instruments | Number of respondents | Responses per respondent | Total responses | Hours per response | Total annual burden hours
State Project Directors/Program Managers
Opioid STR State Instruments Baseline Survey | 59 | 1 | 59 | 4 | 236
Opioid STR State Instruments Time 2 Survey | 59 | 1 | 59 | 4 | 236
Opioid STR State Instruments Time 3 Survey | 59 | 1 | 59 | 4 | 236
Community/Program Directors/Managers
Opioid STR Community-Program Baseline Interview Protocol | 40 | 1 | 40 | 1.5 | 60
Opioid STR Community-Program Follow-up Interview Protocol | 40 | 1 | 40 | 1.5 | 60
Opioid STR Community-Program Baseline Survey | 20 | 1 | 20 | 3 | 60
Opioid STR Community-Program Time 2 Survey | 20 | 1 | 20 | 3 | 60
Opioid STR Community-Program Baseline Time 3 Survey | 20 | 1 | 20 | 3 | 60
Individual clients
Baseline Interview | 1,000 | 1 | 1,000 | .52 | 520
Follow-up Interview ¹ | 800 | 1 | 800 | .52 | 416
Discharge Interview ² | 520 | 1 | 520 | .52 | 270.4
Total | 1,099 |  | 2,637 |  | 2,214.4
Notes:
1. It is estimated that 80% of baseline clients will complete this interview.
2. It is estimated that 52% of baseline clients will complete this interview.

Send comments to Summer King, SAMHSA Reports Clearance Officer, 5600 Fishers Lane, Room 15E57-B, Rockville, Maryland 20857, OR email a copy to summer.king@samhsa.hhs.gov. Written comments should be received by June 19, 2017.

Summer King,
Statistician.

[FR Doc. 2017-07948 Filed 4-19-17; 8:45 am]

BILLING CODE 4162-20-P